DEPARTMENT OF HEALTH AND HUMAN SERVICES

Health Resources and Services Administration

Statement of Organization, Functions, and Delegations of Authority

This notice amends Part R of the Statement of Organization, Functions and Delegations of Authority of the Department of Health and Human Services (DHHS), Health Resources and Services Administration (60 FR 56605 as amended November 6, 1995; as last amended at 65 FR 12021-4 dated March 7, 2000). This notice reflects the organizational changes in the Office of Planning, Evaluation and Legislation (RA5).

I. In the Office of Planning, Evaluation and Legislation (RA5) amend the functional statement as follows:

A. Immediate Office of the Director

Serves as the Administrator's primary staff unit for coordinating the agency's strategic, evaluation and research planning processes; (2) oversees communication and maintains liaison between the Administrator, other OPDIVs, higher levels of the Department and other Departments on all matters involving analysis of program policy undertaken in the Agency; (3) prepares policy analysis papers and other planning documents as required in the Administration's strategic planning process; (4) analyzes budgetary data with regard to planning guidelines; (5) collaborates with Office of Management and Program Support in the development of budgets, performance plans, and performance reports required under the Government Performance and Results Act (GPRA); (6) coordinates activity related to the prevention agenda and Healthy People 2010 activities.

B. Division of Planning and Evaluation (RA51)

Serves as the Administrator's primary staff unit and principal source of advice on program planning and evaluation; (2) oversees communications between the Administrator and higher levels of the Department on all matters that involve program plans and evaluation of program performance; (3) maintains liaison with other Federal and non-Federal health agencies on matters within its areas of responsibility; (4) develops short-range goals, objectives and priorities for the Administrator; (5) coordinates interrelated bureau activities which influence programmatic planning; (6) develops in collaboration with financial management staff the short-range program and financial plan for the Administrator; (7) develops the Agency's annual evaluation plan; (8) manages evaluation funds, monitors progress of studies and disseminates results; (9) provides technical assistance to support the evaluation of policy and operations questions undertaken in the Agency.

C. Division of Information and Analysis (RA52)

Serves as the Administrator's primary staff unit and principal source of advice on program information and analysis; (2) oversees communications between the Administrator and higher levels of the Department on all matters that involve analysis of program policy; (3) maintains liaison with other Federal and non-federal health agencies on matters within its area of responsibility; (4) in conjunction with the Director of Planning and Evaluation, provides technical assistance to support the statistical, economic, cost benefit, and other scientific analyses of policy questions undertaken in the Agency; (5) supports development of long-range objectives and strategies; (6) identifies for the Administrator data required for use in the management and direction of Agency programs; (7) assesses and analyzes trends and makes forecasts about health services systems for use in the program management and decision making process; (8) monitors ongoing information systems which produce analytical data about the Agency's programs; (9) performs analyses of the impact of Agency programs on specific groups within the population, including minorities, and develops appropriate solutions to problems of illness and disease; and (10) coordinates the Administration's public use reports clearance function.

D. Division of Legislation (RA53)

Serves as the Administrator's primary staff unit and principal source of advice on legislative affairs; (2) oversees communications between the Administrator and higher levels of the Department on legislative matters; (3) oversees the legislative program for the Administrator; (4) develops a legislative program for the Agency and develops legislative proposals; (5) prepares the Administrator's analyses, position papers, and reports on proposed legislation; (6) supervises the preparation of testimony and backup materials on the Administration's legislative program for presentation to Congressional Committees; (7) monitors hearings and Congressional activities affecting the Administration; (8) in conjunction with the OAS(L), coordinates the preparation of information requested by and provides technical assistance to, Congressional Committees, Members of Congress, or their staffs in relation to the Agency's legislative programs; and (9) coordinates the distribution of legislative materials and serves as a legislative reference center.

III. Delegation of Authority

All delegations and redelegations of authority which were in effect immediately prior to the effective date hereof have been continued in effect in them or their successors pending further redelegations.

This reorganization is effective upon date of signature.

Dated: June 12, 2000.
Claude Earl Fox,
Administrator.

[FR Doc. 00-15551 Filed 6-20-00; 8:45 am]

BILLING CODE 4160-15-P